The President

3 CFR

Regarding the Proposed Merger of Alcatel and Lucent Technologies, Inc.

Correction

In Presidential document 06-9381 beginning on page 67429 in the issue of Wednesday, November 22, 2006, make the following correction:

In the heading on page 67429, the word “Lucnet” should read “Lucent”.

[FR Doc. C6-9381 Filed 12-22-06; 8:45 am]

BILLING CODE 1505-01-D